DEPARTMENT OF DEFENSE

Office of the Secretary

[Docket ID DOD-2018-OS-0042]

Notice of Availability for Finding of No Significant Impact for the Environmental Assessment Addressing Upgrade of the Main Gate Access Control Point at Defense Distribution Depot, San Joaquin, California, and Surrounding Area

AGENCY: Defense Logistics Agency (DLA), Department of Defense (DoD).

ACTION: Notice of availability (NOA).

SUMMARY: This NOA documents DLA's decision to proceed with the proposed action to upgrade the Main Gate Access Control Point at Defense Distribution Depot, San Joaquin California, and Surrounding Area following the completion of an Environmental Assessment (EA). The EA was prepared as required under the National Environmental Policy Act (NEPA) of 1969.

FOR FURTHER INFORMATION CONTACT: Ira Silverberg at 571-767-0705 during normal business hours Monday through Friday, from 8:00 a.m. to 4:30 p.m. (EST) or by email: ira.silverberg@dla.mil.

SUPPLEMENTARY INFORMATION: DLA completed an EA to address the potential environmental consequences associated with the Proposed Action. This Finding of No Significant Impact (FONSI) incorporates the EA by reference, summarizes the results of the analyses in the EA, and documents DLA's decision to upgrade the Main Gate ACP at Defense Distribution Depot, San Joaquin and surrounding area. DLA has determined that the Proposed Action is not a major federal action that significantly affects the quality of the human environment within the context of NEPA, and that no significant impacts on the human environment are associated with this decision.

DLA consulted with the California State Historic Preservation Officer (SHPO) at the California Department of Parks and Recreation, Office of Historic Preservation, and the Buena Vista Rancheria of Me-Wuk Indians, Ione Band of Miwok Indians, North Valley Yokuts Tribe, Southern Sierra Miwuk Nation, Wilton Rancheria, and United Auburn Indian Community of the Auburn Rancheria for this Proposed Action. The SHPO concurred that the Proposed Action would not affect historic properties. The Buena Vista Rancheria of Me-Wuk Indians provided a response indicating the Tribe was not aware of any cultural resources, but requested notification if any issues arise during the Proposed Action and if undeveloped soil would be disturbed. DLA did not receive responses to the consultation requests with the other tribes. The SHPO and tribal consultation documents and the responses from the SHPO and the Buena Vista Rancheria of Me-Wuk Indians are in Appendix A of the revised EA.

On July 12, 2018, a Federal Register NOA was published announcing the availability of the EA for a 30-day public comment period that ended August 13, 2018. One comment letter, from the San Joaquin County Department of Public Works, was received during the EA public comment period. The San Joaquin County Department of Public Works had no comments, but requested to be included on the distribution list for future project documents. The comment letter was added to Appendix A of the revised EA. The revised EA is available electronically at the Federal eRulemaking Portal at http://www.regulations.gov within Docket ID: DOD-2018-OS-0042.

Purpose and Need for Action: The purpose of the Proposed Action is to provide the Defense Distribution Depot, San Joaquin with a safe and secure ACP at the Main Gate for light vehicles (e.g., standard dual-axle trucks and cars), bicycles, and pedestrians that is compliant with DoD Unified Facilities Criteria (UFC) 4-022-01, Security Engineering: Entry Control Facilities/Access Control Points, and UFC 4-010-01, DoD Minimum Antiterrorism Standards for Buildings, under all force-protection conditions. The Proposed Action would also provide adequate space on installation property for vehicle queuing entering the ACP, so that queuing does not occur on Chrisman Road. The Proposed Action is needed because the existing 58-year-old Main Gate ACP does not meet current DoD UFC requirements. Additionally, the Proposed Action is needed to reduce existing queuing issues along Chrisman Road during high-volume employee shift changes.

Proposed Action and Alternatives: Under the Proposed Action, DLA would demolish and remove existing buildings and infrastructure within the proposed ACP footprint; construct a new, permanent ACP at the Main Gate on the installation; and implement off-installation road improvements. The proposed ACP would consist of a visitor center, identification check point, vehicle inspection area, gatehouse, overwatch building, active and passive vehicle barriers and security fencing, utilities, and ancillary components. The existing Main Gate ACP, a warehouse, roadways and other pavements would be demolished; two fabric tent structures would be relocated; and infrastructure (i.e., utilities, fencing, and asphalt pavement) would be removed and replaced. The Proposed Action would also require the installation of a traffic signal at the intersection of Chrisman and Valpico Road, and the restriping of one lane of Chrisman Road leading to the intersection. After completion of construction, the proposed ACP would operate as a secondary ACP (i.e., an ACP that operates during regular hours, but less than 24 hours per day), similar to the existing Main Gate ACP. Light vehicles would continue to have access to the installation via the Truck Gate, which is currently open and would remain open 24 hours per day, during the hours the proposed ACP is closed. Gate 2 and the Employee Gate, which are currently used under limited circumstances, would be permanently closed. No new DLA personnel would be required to operate the proposed ACP.

Description of the No Action Alternative: Under the No Action Alternative, DLA would not upgrade the Main Gate ACP at Defense Distribution Depot, San Joaquin. The ACP enhancements would not be provided, and operational conditions would not be improved. Gate 2 and the Employee Gate would remain open. Compliance with DoD UFCs 4-010-01 and 4-022-01 would not be met. Critical logistic and security operations at Defense Distribution Depot, San Joaquin would be vulnerable to disruption and potentially long-term denial of service, which could have an immediate impact on the command and control of these operations. DLA police would continue to use inadequate facilities to inspect incoming light vehicles. The No Action Alternative would not meet the purpose of and need for the Proposed Action.

Potential Environmental Impacts: No significant effects on environmental resources would be expected from the Proposed Action. Insignificant adverse effects on noise, air quality, geological resources, water resources, biological resources, health and safety, infrastructure and transportation, and hazardous materials and wastes would be expected. Insignificant beneficial effects on geological resources, water resources, health and safety, infrastructure and transportation, and hazardous materials and wastes would be expected. No impacts on land use or environmental justice would be expected. Details of the environmental consequences are discussed in the EA, which is hereby incorporated by reference.

Determination: DLA has determined that implementation of the Proposed Action will not have a significant effect on the human environment. Human environment was interpreted comprehensively to include the natural and physical environment and the relationship of people with that environment. Specifically, no highly uncertain or controversial impacts, unique or unknown risks, or cumulatively significant effects were identified. Implementation of the Proposed Action will not violate any federal, state, or local laws. Based on the results of the analyses performed during preparation of the EA and consideration of comments received during the public comment period, Mr. Gordon B. Hackett III, Director, DLA Installation Management, concludes that implementation of the Proposed Action at Defense Distribution Depot, San Joaquin does not constitute a major federal action that would significantly affect the quality of the human environment within the context of NEPA. Therefore, an environmental impact statement for the Proposed Action is not required.

Dated: February 20, 2019.
Shelly E. Finke,
Alternate OSD Federal Register Liaison Officer, Department of Defense.

[FR Doc. 2019-03208 Filed 2-25-19; 8:45 am]

BILLING CODE 5001-06-P